ENVIRONMENTAL PROTECTION AGENCY

[ER-FRL-6632-1]

Environmental Impact Statements; Notice of Availability

Responsible Agency: Office of Federal Activities, General Information (202) 564-7167 or www.epa.gov/compliance/nepaWeekly receipt of Environmental Impact Statements Filed August 5, 2002 Through August 9, 2002 Pursuant to 40 CFR 1506.9.

EIS No. 020339, DRAFT EIS, AFS, MN, Holmes/Chipmunk Timber Sale Project, Implementation, Superior National Forest, LaCroix Ranger District, Saint Louis County, MN, Comment Period Ends: September 30, 2002, Contact: John Galazen (218) 666-0020.

EIS No. 020340, DRAFT EIS, AFS, AZ, Kachina Village Forest Health Project, Implementation, Improving Forest Health and Reducing Wildfire Potential on National Forest System Land in the Coconino National Forest, Mormon Lake Ranger District, Coconino County, AZ, Comment Period Ends: September 30, 2002, Contact: Tammy Randall-Parker (928) 774-1147.

This document is available on the Internet at: http://www.fs.fed.us/r3/coconino/nepa.

EIS No. 020341, FINAL EIS, DOE, WA, OR, Wallula Power Project and Wallula-McNary Transmission Line Project, Construction and Operation, 1300 megawatt(MW) Natural Gas Fired Combustion Gas Turbine Facility and a new 500-kilovolt(kV) Transmission Line and Upgrade of the McNary Substation, US COE Section 10 and 404 Permits, Walla-Walla Co., WA and Umatilla Co., OR, Wait Period Ends: September 16, 2002, Contact: Donald L. Rose (503) 230-3796.

This document is available on the Internet at: http://www.efsec.wa.gov.

EIS No. 020342, FINAL EIS, FRC, ID, Four Mid-Snake River Hydroelectric Projects, Applications for New License for the Existing Projects: Shoshane Falls-FERC No. 2778, Upper Salmon Falls-FERC No. 2777, Lower Salmon Falls-FERC No. 2061 and Bliss-FERC No. 1975, Snake River, ID, Wait Period Ends: September 16, 2002, Contact: John Blair (202) 219-2845.

This document is available on the Internet at: http://www.rimsweb1.ferc.gov.

EIS No. 020343, DRAFT EIS, SFW, CA, Natomas Basin Habitat Conservation Plan, Issuance of Incidental Take Permit and the Adoption of an Implementing Agreement or Agreements, Natomas Basin, Sacramento and Sutter Counties, CA, Comment Period Ends:September 30, 2002, Contact: Vicki Campbell (916) 414-6600.

EIS No. 020344, FINAL EIS, AFS, NM, Viveash Fire Timber Salvage Project, Proposal to Harvest a Portion of the Fire-Killed Trees, Pecos/Las Vegas Ranger District, Santa Fe National Forest, NM, Wait Period Ends: September 16, 2002, Contact: Chris Napp (505) 757-6121.

This document is available on the Internet at: http://www.fs.fed.us/r3/sfe/.

EIS No. 020345, DRAFT EIS, COE, KS, Kansas Highway 10 (commonly known as South Lawrence Trafficway) Relocation, Issuance or Denial of Section 404 Permit Request, Lawrence City, Douglas County, KS, Comment Period Ends: September 30, 2002, Contact: Robert J. Smith (816) 983-3656.

EIS No. 020346, DRAFT EIS, EPA, LA, Marrero-Lafitte Waterline Modification of the Memorandum of Agreement (MOA) between USEPA and Jefferson Parrish, LA, Approval or Denial, Jefferson Parrish, LA, Comment Period Ends: September 30, 2002, Contact: Robert D. Lawrence (215) 655-8150.

EIS No. 020347, DRAFT EIS, SFW, CA, Aquatic Habitat Conservation Plan and Candidate Conservation Agreement with Assurances to Conserve Habitat for and Mitigate Impacts on Six Aquatic Species, USFWS Enhancement of Survival Permit and an USMFS Incidental Take Permit Issuance, Humboldt and Del Norte Counties, CA, Comment Period Ends: November 19, 2002, Contact: Amedee Brickey (707) 822-8136.

This document is available on the Internet at: http://www.swr.nmfs.noaa.gov/.

Amended Notices

EIS No. 020248, DRAFT EIS, COE, CA, Bolinas Lagoon Ecosystem Restoration, Proposal to Removal up to 1.5 Million Cubic Yard of Sediment from the bottom of Lagoon to Allow Restoration of Tidal Movement and Eventual Restoration of Tidal Habitat, Marin County, CA, Comment Period Ends: October 1, 2002, Contact: Roger Golden (415) 977-8703. Revision of FR Notice Published on 7/19/2002: CEQ Comment Period Ending 8/15/2002 has been extended to 10/1/2002.

EIS No. 020304, FINAL EIS, NOA, CA, San Francisco Bay National Estuarine Research Reserve, Proposes to Designate Three Sites: China Camp State Park, Brown's Island Regional Parks District, and Rush Ranch Open Space Preserve, Contra Costa, Marin and Solano Counties, CA, Wait Period Ends: August 26, 2002, Contact: Laurie McGilvray—ext 15 (301) 713-3132.

Revision of FR Notice Published on 7/19/2002: CEQ Wait Period Ending on 8/19/2002 has been Extended to 8/26/2002.

Dated: August 13, 2002.
Joseph C. Montgomery,
Director, NEPA Compliance Division, Office of Federal Activities.

[FR Doc. 02-20862 filed 8-15-02; 8:45 am]

BILLING CODE 6560-50-P